DEPARTMENT OF THE INTERIOR

National Park Service

[N6724; NPS-WASO-NAGPRA-NPS0041484; PPWOCRADN0-PCU00RP14.R50000]

Notice of Inventory Completion: Center for the History of Medicine in the Francis A. Countway Library of Medicine, Harvard University, Boston, MA

AGENCY: National Park Service, Interior.

ACTION: Notice.

SUMMARY: In accordance with the Native American Graves Protection and Repatriation Act (NAGPRA), the Peabody Museum of Archaeology and Ethnology, Harvard University (PMAE) and Warren Anatomical Museum collection in the Center for the History of Medicine, Francis A. Countway Library of Medicine, Harvard University (CHoM) have completed an inventory of human remains and have determined that there is a cultural affiliation between the human remains and Indian Tribes or Native Hawaiian organizations in this notice.

DATES: Repatriation of the human remains in this notice may occur on or after January 20, 2026.

ADDRESSES: Send written requests for repatriation of the human remains in this notice to Jane Pickering, Peabody Museum of Archaeology and Ethnology, Harvard University, 11 Divinity Avenue, Cambridge, MA 02138, email jpickering@fas.harvard.edu.

SUPPLEMENTARY INFORMATION: This notice is published as part of the National Park Service's administrative responsibilities under NAGPRA. The determinations in this notice are the sole responsibility of the PMAE and CHoM, and additional information on the determinations in this notice, including the results of consultation, can be found in the inventory or related records. The National Park Service is not responsible for the determinations in this notice.

Abstract of Information Available

Based on the available information, human remains representing, at least, one individual has been reasonably identified. No associated funerary objects are present. The remains of the individual were found in the Warren Anatomical Museum collection. Documentation suggests the remains were collected in Oceania, likely the Hawaiian Islands, and that the individual was donated to the Museum by John Collins Warren II (1842-1927) as part of the Jonathan Mason Warren collection in 1883.

Cultural Affiliation

Based on the available information and the results of consultation, cultural affiliation is reasonably identified by the information available about the human remains described in this notice.

Determinations

The PMAE and CHoM have determined that:

• The human remains described in this notice represent the physical remains of one individual of Native American ancestry.

• There is a reasonable connection between the human remains described in this notice, the Hui Iwi Kuamo'o, and the Office of Hawaiian Affairs.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 20, 2026. If competing requests for repatriation are received, the PMAE must determine the most appropriate requestor prior to repatriation. Requests for joint repatriation of the human remains are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: December 2, 2025.
Melanie O'Brien,
Manager, National NAGPRA Program.

[FR Doc. 2025-23178 Filed 12-17-25; 8:45 am]

BILLING CODE 4312-52-P